DEPARTMENT OF COMMERCE

National Oceanic and Atmospheric Administration

[I.D. 062405A]

NOAA Recreational Fisheries Action Team Public Meeting

AGENCY: National Marine Fisheries Service (NMFS), National Oceanic and Atmospheric Administration (NOAA), Commerce.

ACTION: Notice of public meeting.

SUMMARY: NMFS is hosting a public meeting in July 2005, in Santa Ana, California. The purpose of the meeting is to identify programs and projects to be implemented as part of the NOAA Recreational Fisheries Strategic Plan 2005-2010, and to gather input from the public.

DATES: The meeting will be held on Wednesday, July 13, and Thursday, July 14, 2005. Wednesday's meeting is scheduled to start at 10 a.m. and end at 6 p.m. Pacific standard time (P.s.t.). Thursday's meeting is scheduled to start at 8:30 a.m. and end at 3:30 p.m. P.s.t.

ADDRESSES: The meeting will be held at the Holiday Inn Orange County Airport, 2726 South Grand Ave., Santa Ana, CA 92705; phone: (714) 481-6300.

Copies of the NOAA Recreational Fisheries Strategic Plan are available on the Internet at: http://www.nmfs.noaa.gov/ocs/recfish/getinvolved.htm, or can be obtained by contacting Marty Golden (see FOR FURTHER INFORMATION CONTACT).

Directions: The reference point for these directions is the John Wayne (Orange County) Airport. Exit the airport to Macarthur Blvd., North bound - go about 1¼ miles.

Take Costa Mesa Fwy. (Hwy 55) North - go about ¾ of a mile.

Take first exit, Dyer Road - go West (Left), under the Fwy.

Take first right on South Grand Ave. and travel half a block to the hotel.

The reference point for these directions is the San Diego Fwy. (I- 405).

Exit to the Costa Mesa Fwy. (Hwy 55) North - go about 1¾ miles.

Exit to Dyer Road - go West (Left), under the Fwy.

Take first right on South Grand Ave. and travel half a block to the hotel.

The reference point for these directions is the Costa Mesa Fwy. (Hwy 55) South bound.

Exit at South Grand Ave (Exit 8B).

Take a left at the end of the exit ramp onto South Grand Ave. and travel half a block to the hotel.

FOR FURTHER INFORMATION CONTACT: Marty Golden, Pacific Recreational Fisheries Coordinator Staff; phone (562) 980-4004.

SUPPLEMENTARY INFORMATION:

Special Accommodations

The meeting is physically accessible to people with disabilities. Requests for sign language interpretation or other auxiliary aids should be directed to Michael Kelly at (301) 713-9504 at least 5 days prior to the meeting date.

Dated: June 24, 2005.
Michael Kelly
Division Chief, Office of Constituent Services, National Marine Fisheries Service.

[FR Doc. 05-12934 Filed 6-29-05; 8:45 am]

BILLING CODE 3510-22-S